DEPARTMENT OF DEFENSE

Office of the Secretary

Closed Meeting of the Defense Policy Board Advisory Committee

AGENCY: Department of Defense.

ACTION: Notice.

SUMMARY: The Defense Policy Board Advisory Committee announced a closed session in the Federal Register on August 22, 2008 (73 FR 49652). This notice is being published to announce a change in the meeting times. The Defense Policy Board Advisory Committee will now meet on September 25, 2008 from 0800 until 1930 and September 26, 2008 from 0800 until 1500.

Dated: September 3, 2008.
Patricia L. Toppings,
OSD Federal Register Liaison Officer, Department of Defense.

[FR Doc. E8-21101 Filed 9-10-08; 8:45 am]

BILLING CODE 5001-06-P